ENVIRONMENTAL PROTECTION AGENCY

[FRL-8917-1]

Proposed CERCLA Section 122(h) Ability-to-Pay Settlement Relating to the Crumb Trailer Park Superfund Site, Village of West Winfield, Herkimer County, NY

AGENCY: Environmental Protection Agency (EPA).

ACTION: Notice; request for public comment.

SUMMARY: In accordance with Section 122(i) of the Comprehensive Environmental Response, Compensation, and Liability Act of 1980, as amended (“CERCLA”), 42 U.S.C. 9622(i), notice is hereby given by the U.S. Environmental Protection Agency (“EPA”), Region 2, of a proposed settlement agreement pursuant to Section 122(h) of CERCLA, 42 U.S.C. 9622(h), in accordance with EPA “ability-to-pay” policies, with Crumb's Trailer Park, LLC (the “Settling Party”), a New York limited liability corporation which is a potentially responsible party, pursuant to CERCLA, for a removal response action conducted by EPA at the Crumb Trailer Park Superfund Site (“Site”) in the Village of West Winfield, Herkimer County, New York. The Site includes a 2.6-acre parcel of real property that had been occupied as a mobile home facility. The removal response action included the placement of a soil cover over contaminated soils at the Site, the imposition of institutional controls to prohibit residential use of the Site and the relocation, pursuant to the Uniform Relocation Assistance and Real Property Acquisition Policies Act of 1970 (42 U.S.C. 4601 et seq.), of the residents of the mobile home facility at the Site to an adjacent mobile home facility on property owned by the Settling Party. EPA has estimated the value of the settlement at $132,600. Pursuant to the settlement, the Settling Party will lease to the relocated residents at their existing rents for at least forty-two (42) months, will impose institutional controls at the Site property to prohibit residential use of that property and will perform specified post-removal Site controls. The settlement includes a covenant by EPA not to sue nor to take administrative action against the Settling Party pursuant to Sections 106 and 107 of CERCLA, 42 U.S.C. 9606 and 9607, with regard to the Site. For thirty (30) days following the date of publication of this notice, EPA will receive written comments relating to the settlement. EPA will consider all comments received and may modify or withdraw its consent to the settlement if comments received disclose facts or considerations that indicate that the proposed settlement is inappropriate, improper or inadequate. EPA's response to any comments received will be available for public inspection at EPA Region 2 offices, 290 Broadway, New York, New York 10007-1866.

DATES: Comments must be submitted on or before July 13, 2009.

ADDRESSES: The proposed settlement is available for public inspection at EPA Region 2 offices at 290 Broadway, New York, New York 10007-1866. Comments should reference the Crumb Trailer Park Superfund Site, Village of West Winfield, Herkimer County, Index No. CERCLA-02-2009-2004. To request a copy of the proposed settlement agreement, please contact the EPA employee identified below.

FOR FURTHER INFORMATION CONTACT: Michael A. Mintzer, Assistant Regional Counsel, New York/Caribbean Superfund Branch, Office of Regional Counsel, U.S. Environmental Protection Agency, 290 Broadway, 17th Floor, New York, New York 10007-1866. Telephone: 212-637-3168.

Dated: May 27, 2009.
John E. LaPadula,
Acting Director, Emergency and Remedial Response, Division, Region 2.

[FR Doc. E9-13729 Filed 6-10-09; 8:45 am]

BILLING CODE 6560-50-P